DEPARTMENT OF ENERGY

Federal Energy Regulatory Commission

[Project No. 2302-101]

Brookfield White Pine Hydro LLC; Notice of Application Ready for Environmental Analysis and Soliciting Comments, Recommendations, Terms and Conditions, and Prescriptions

Take notice that the following hydroelectric application has been filed with the Commission and is available for public inspection.

a. Type of Application: New Major License.

b. Project No.: 2302-101.

c. Date Filed: August 28, 2024.

d. Applicant: Brookfield White Pine Hydro LLC.

e. Name of Project: Lewiston Falls Hydroelectric Project (project).

f. Location: On the Androscoggin River in the Cities of Lewiston and Auburn, and the Town of Durham, Androscoggin County, Maine.

g. Filed Pursuant to: Federal Power Act 16 U.S.C. 791(a)-825(r).

h. Applicant Contact: Luke T. Anderson, Brookfield Renewable, 150 Main Street, Lewiston, Maine 04240; (207) 755-5613; email at Luke.Anderson@brookfieldrenewable.com.

i. FERC Contact: Lauren Townson at (202) 502-8572, or Lauren.Townson@ferc.gov.

j. Deadline for filing comments, recommendations, terms and conditions, and prescriptions: on or before 5:00 p.m. Eastern Time on July 14, 2025; reply comments are due on or before 5:00 p.m. Eastern Time on September 2, 2025.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Lewiston Falls Hydroelectric Project (P-2302-101).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The existing Lewiston Falls Hydroelectric Project consists of: (1) a dam consisting of 5 distinct sections: (a) a 154-foot-long stone masonry section topped with a single rubber dam for a total elevation of 169.07 feet, (b) a 279-foot-long stone masonry section topped with a single rubber dam for a total elevation of 169.07 feet, (c) a 161-foot-long stone masonry section topped with a single rubber dam for a total elevation of 168.60 feet, (d) a 162-foot-long stone masonry section topped with a single rubber dam for a total elevation of 168.60 feet, and (e) a 57-foot-long concrete section topped with 1.34-foot-high flashboards for a total elevation of 168.17 feet; (2) a 2.5-mile-long, 169-acre impoundment at a full pond elevation of 168.17 feet; (3) an 85.16-foot-long, 60-foot-high reinforced concrete intake with 3.25-inch spaced trashracks; (4) four 16.8-foot wide intake tubes, each pair converging into one; (4) a reinforced concrete powerhouse containing two vertical Kaplan turbine generators for a total installed capacity of 28.44 megawatts; (5) a 400-foot-long, 75-foot-wide excavated tailrace; (6) a 111.6-foot-long, 26.3-foot-wide masonry canal gatehouse located at the southeast corner of the impoundment diverting flow to a canal system; (7) a 12.5 to 34.5-kilovolt (kV) transformer; (8) a 125-foot-long underground transmission line connected to Central Maine Power's distribution system; and (8) appurtenant facilities. The project average annual generation between 2013 and 2023 was 157,614 megawatt-hours (MWh).

Brookfield currently operates the project in a run-of-river mode by typically limiting impoundment drawdowns to no more than 1 foot below the normal elevation of 168.17 feet. However, the project is licensed to operate with up to four feet of impoundment drawdowns. The current license requires Brookfield to release a minimum flow of 1,430 cfs or inflow, whichever is less. Brookfield states that it meets this requirement by releasing 50 cfs from the impoundment to the Lewiston Canal System and 1,380 cfs to the river downstream of the project. The maximum hydraulic capacity of the project's generating units is 6,600 cfs and the minimum hydraulic capacity of a single unit is approximately 800 cfs.

The licensee is proposing to remove an existing building from the project boundary. The building is a non-project facility and is located near the Canal Gatehouse. The building is privately owned and serves no project purpose, according to Brookfield's application. In total, this change will remove 0.08 acre from the project boundary, resulting in a total of 237.88 acres remaining within the project boundary.

m. A copy of the application can be viewed on the Commission's website (https://www.ferc.gov), using the “eLibrary” link. Enter the docket number, excluding the last three digits in the docket number field, to access the document. For assistance, please contact FERC Online Support (see item j above).

You may also register at https://ferconline.ferc.gov/FERCOnline.aspx to be notified via email of new filings and issuances related to this or other pending projects. For assistance, please contact FERC Online Support (see item j above).

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Final amendments to the application must be filed with the Commission no later than 30 days from the issuance date of this notice.

Dated: May 15, 2025.
Carlos D. Clay,
Deputy Secretary.

[FR Doc. 2025-09104 Filed 5-20-25; 8:45 am]

BILLING CODE 6717-01-P